DEPARTMENT OF THE INTERIOR

Bureau of Land Management

[LLUT92000 L13100000 FI0000 25-7A]

Notice of Proposed Class II Reinstatement of Terminated Oil and Gas Leases, Utah

AGENCY: Bureau of Land Management, Interior.

ACTION: Notice.

SUMMARY: In accordance with Title IV of the Federal Oil and Gas Royalty Management Act (Pub. L. 97-451), Delta Petroleum Corporation and Wapiti Oil and Gas LLC timely filed a petition for reinstatement of oil and gas leases UTU-85226 and UTU-85230 lands in Uintah County, Utah, and it was accompanied by all required rentals and royalties accruing from February 1, 2011, the date of termination.

FOR FURTHER INFORMATION CONTACT: Kent Hoffman, Deputy State Director, Lands and Minerals, Utah State Office, Bureau of Land Management, 440 West 200 South, Salt Lake City, Utah 84145, phone (801) 539-4063.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lessee has agreed to new lease terms for rentals and royalties at rates of $10 per acre and 16-⅔%, respectively. The $500 administrative fee for both leases has been paid and the lessee has reimbursed the Bureau of Land Management for the cost of publishing this notice.

Having met all the requirements for reinstatement of the lease as set out in Section 31(d) and (e) of the Mineral Leasing Act of 1920 (30 U.S.C. 188), the Bureau of Land Management is proposing to reinstate the lease, effective February 1, 2011, subject to the original terms and conditions of the lease and the increased rental and royalty rates cited above.

Jeff Rawson,
Associate State Director.

[FR Doc. 2011-19656 Filed 8-2-11; 8:45 am]

BILLING CODE 4310-DQ-P